DEPARTMENT OF AGRICULTURE

Animal and Plant Health Inspection Service

[Docket No. APHIS-2022-0067]

Notice of Request for Extension of Approval of an Information Collection; Imports of Live Fish, Fertilized Eggs, and Gametes From Tilapia Lake Virus-Susceptible Species

AGENCY: Animal and Plant Health Inspection Service, USDA.

ACTION: Request for extension of approval of an information collection; comment request.

SUMMARY: In accordance with the Paperwork Reduction Act of 1995, this notice announces the Animal and Plant Health Inspection Service's intention to request an extension of approval of an information collection associated with the regulations for the importation of live fish, fertilized eggs, and gametes from tilapia lake virus-susceptible species into the United States.

DATES: We will consider all comments that we receive on or before February 7, 2023.

ADDRESSES: You may submit comments by either of the following methods:

• Federal eRulemaking Portal: Go to www.regulations.gov. Enter APHIS-2022-0067 in the Search field. Select the Documents tab, then select the Comment button in the list of documents.

• Postal Mail/Commercial Delivery: Send your comment to Docket No. APHIS-2022-0067, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations related to the importation of live fish, fertilized eggs, and gametes from TiLV-susceptible species, contact Dr. Alicia Marston, Senior Staff Veterinary Medical Officer, Live Animal Imports and Exports, APHIS Veterinary Services, 4700 River Road, Riverdale, MD 20737; (301) 851-3361. For detailed information about the information collection reporting process, contact Mr. Joseph Moxey, APHIS' Information Collection Coordinator; (301) 851-2483; joseph.moxey@usda.gov.

SUPPLEMENTARY INFORMATION:

Title: Imports of Live Fish, Fertilized Eggs, and Gametes from Tilapia Lake Virus-Susceptible Species.

OMB Control Number: 0579-0473.

Type of Request: Extension of approval of an information collection.

Abstract: Under the Animal Health Protection Act (7 U.S.C. 8301 et seq.), the Animal and Plant Health Inspection Service (APHIS) of the U.S. Department of Agriculture (USDA) is authorized, among other things, to prohibit or restrict the importation and interstate movement of animals and animal products to prevent the introduction into and dissemination within the United States of livestock diseases and pests. To carry out this mission, APHIS regulates the importation of animals and animal products into the United States.

The U.S. aquaculture industry experienced an outbreak of tilapia lake virus (TiLV) in March 2019, and APHIS determined that the introduction and establishment of TiLV posed a serious threat to U.S. agriculture. Subsequently, APHIS published a Federal Order ¹ in November 2019 placing certain import requirements on all live fish, fertilized eggs, and gametes from TiLV-susceptible species imported from all countries. At this time, the Federal Order remains in effect. These imported items must be accompanied by a USDA-issued import permit, an official veterinary health certificate, and evidence of a U.S. veterinary inspection before being allowed entry into the United States.

¹ https://www.aphis.usda.gov/animal_health/downloads/import/tilv-federal-order.pdf.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.86 hours per response.

Respondents: State animal health officials, importers, and veterinarians.

Estimated annual number of respondents: 57.

Estimated annual number of responses per respondent: 2.

Estimated annual number of responses: 114.

Estimated total annual burden on respondents: 98 hours. (Due to averaging, the total annual burden hours may not equal the product of the annual number of responses multiplied by the reporting burden per response.)

All responses to this notice will be summarized and included in the request for OMB approval. All comments will also become a matter of public record.

Done in Washington, DC, this 5th day of December 2022.
Anthony Shea,
Administrator, Animal and Plant Health Inspection Service.

[FR Doc. 2022-26760 Filed 12-8-22; 8:45 am]

BILLING CODE 3410-34-P